DEPARTMENT OF TRANSPORTATION

Federal Aviation Administration

14 CFR Part 39

[Docket No. FAA-2013-0164; Directorate Identifier 2013-NE-10-AD; Amendment39-17834; AD 2014-08-10]

RIN 2120-AA64

Airworthiness Directives; Austro Engine GmbH Engines

AGENCY: Federal Aviation Administration (FAA), DOT.

ACTION: Final rule.

SUMMARY: We are superseding airworthiness directive (AD) 2013-14-08 for all Austro Engine GmbH model E4 engines. AD 2013-14-08 required removing from service certain part number (P/N) waste gate controllers. This AD requires removing certain additional P/N waste gate controllers from service. This AD was prompted by several reports of power loss events due to fracture of the waste gate controller lever. We are issuing this AD to prevent failure of the waste gate controller lever, which could lead to damage to one or more engines, loss of thrust control, and damage to the airplane.

DATES: This AD is effective June 3, 2014.

ADDRESSES: For service information identified in this AD, contact Austro Engine GmbH, Rudolf-Diesel-Strasse 11, A-2700 Weiner Neustadt, Austria; phone: +43 2622 23000; fax: +43 2622 23000-2711; Internet: www.austroengine.at. You may view this service information at the FAA, Engine & Propeller Directorate, 12 New England Executive Park, Burlington, MA. For information on the availability of this material at the FAA, call 781-238-7125.

Examining the AD Docket

You may examine the AD docket on the Internet at http://www.regulations.gov by searching for and locating Docket No. FAA-2013-0164; or in person at the Docket Management Facility between 9 a.m. and 5 p.m., Monday through Friday, except Federal holidays. The AD docket contains this AD, the mandatory continuing airworthiness information (MCAI), the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Wego Wang, Aerospace Engineer, Engine Certification Office, FAA, Engine & Propeller Directorate, 12 New England Executive Park, Burlington, MA 01803; phone: 781-238-7134; fax: 781-238-7199; email: wego.wang@faa.gov.

SUPPLEMENTARY INFORMATION:

Discussion

We issued a notice of proposed rulemaking (NPRM) to amend 14 CFR part 39 to supersede AD 2013-14-08, Amendment 39-17513 (78 FR 42677, July 17, 2013), (“AD 2013-14-08”). AD 2013-14-08 applied to the specified products. The NPRM published in the Federal Register on January 10, 2014 (79 FR 1774). The NPRM proposed to continue to require removal from service of certain P/N waste gate controllers. The NPRM also proposed that, based on additional in-service failures, additional P/N waste gate controllers no longer be eligible for installation.

Comments

We gave the public the opportunity to participate in developing this AD. We received no comments on the NPRM (79 FR 1774, January 10, 2014).

Conclusion

We reviewed the available data and determined that air safety and the public interest require adopting this AD as proposed.

Costs of Compliance

We estimate that this AD affects 128 engines installed on airplanes of U.S. registry. We also estimate that it will take about 0.5 hours per engine to comply with this AD. The average labor rate is $85 per hour. Required parts cost about $231 per engine. Based on these figures, we estimate the total cost of this AD to U.S. operators to be $35,008.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2013-14-08, Amendment 39-17513 (78 FR 42677, July 17, 2013) and adding the following new AD:

2014-08-10 Austro Engine GmbH Engines: Amendment 39-17834; Docket No. FAA-2013-0164; Directorate Identifier 2013-NE-10-AD.

(a) Effective Date

This AD is effective June 3, 2014.

(b) Affected ADs

This AD supersedes AD 2013-14-08, Amendment 39-17513 (78 FR 42677, July 17, 2013).

(c) Applicability

This AD applies to all Austro Engine GmbH model E4 engines, with a waste gate controller, part number (P/N) E4A-41-120-000, Revision 060 or lower revision; or a waste gate controller, P/N E4B-41-120-000, Revision 010 or lower revision, installed.

(d) Unsafe Condition

This AD was prompted by engine power loss events due to fracture of the waste gate controller lever. We are issuing this AD to prevent failure of the waste gate controller lever, which could lead to damage to one or more engines, loss of thrust control, and damage to the airplane.

(e) Compliance

(1) Comply with this AD within the compliance times specified, unless already done.

(2) At the next maintenance action for any reason, or within 110 flight hours after the effective date of this AD, or within three months after the effective date of this AD, whichever occurs first, remove from service waste gate controller, P/N E4A-41-120-000, Revision 060 or lower revision, and waste gate controller, P/N E4B-41-120-000, Revision 010 or lower revision.

(f) Installation Prohibition

After the effective date of this AD, do not install any waste gate controller, P/N E4A-41-120-000, Revision 060 or lower revision, or waste gate controller, P/N E4B-41-120-000, Revision 010 or lower revision, onto any engine, or approve for return to service any engine that has either waste gate controller installed.

(g) Alternative Methods of Compliance (AMOCs)

The Manager, Engine Certification Office, may approve AMOCs for this AD. Use the procedures found in 14 CFR 39.19 to make your request.

(h) Related Information

(1) For more information about this AD, contact Wego Wang, Aerospace Engineer, Engine Certification Office, FAA, Engine & Propeller Directorate, 12 New England Executive Park, Burlington, MA 01803; phone: 781-238-7134; fax: 781-238-7199; email: wego.wang@faa.gov.

(2) Refer to MCAI European Aviation Safety Agency AD 2013-0213, dated September 13, 2013, for more information. You may examine the MCAI in the AD docket on the Internet at http://www.regulations.gov/#!documentDetail;D=FAA-2013-0164-0002.

(3) Austro Engine Mandatory Service Bulletin No. MSB-E4-007/6, Revision 6, dated September 18, 2013, which is not incorporated by reference in this AD, can be obtained from Austro Engine GmbH, using the contact information in paragraph (h)(4) of this AD.

(4) For service information identified in this AD, contact Austro Engine GmbH, Rudolf-Diesel-Strasse 11, A-2700 Weiner Neustadt, Austria; phone: +43 2622 23000; fax: +43 2622 23000-2711; Internet: www.austroengine.at.

(5) You may view this service information at the FAA, Engine & Propeller Directorate, 12 New England Executive Park, Burlington, MA. For information on the availability of this material at the FAA, call 781-238-7125.

(i) Material Incorporated by Reference

None.

Issued in Burlington, Massachusetts, on April 15, 2014.
Ann C. Mollica,
Acting Assistant Directorate Manager, Engine & Propeller Directorate, Aircraft Certification Service.

[FR Doc. 2014-09349 Filed 4-28-14; 8:45 am]

BILLING CODE 4910-13-P